DEPARTMENT OF AGRICULTURE

Forest Service

Mt. Ashland Ski Area Expansion, Rogue River National Forest, Jackson County, OR

AGENCY: Forest Service, USDA.

ACTION: Notice of intent to prepare an environmental impact statement.

SUMMARY: The USDA, Forest Service will prepare an environmental impact statement (EIS) to document the analysis and disclose the environmental impacts of a proposal to expand the Mt. Ashland Ski Area (MASA). The project area is located approximately 7 miles south of Ashland, Oregon, within the Siskiyou Mountains in Southern Oregon. The proposed expansion would include construction of two chairlifts, two surface lifts, and approximately 73 acres of associated new ski run terrain primarily within the western half of the Special Use Permit area. There would be an additional 11 acres of clearing for lift corridors, widening of existing runs, and staging areas. In addition, expanded features would include a tubing facility in the southern portion of the permit area; three guest services buildings, a yurt, additional night lighting; additional maintenance access road segments; additional power, water lines and storage tanks, sewer lines; an additional snow fence, and an increase in parking by 220 spaces. Additional watershed restoration projects would be implemented, including structural storm water control, and non-structural controls, such as the placement of coarse woody material. The proposed projects would be implemented and financed by the Mt. Ashland Association (MAA) as soon as possible after Forest Service authorization. Overall completion may take 10 or more years. The agency will give notice of the full environmental analysis and decision making process on the proposed expansion so interested and affected members of the public may participate and contribute in the final decision.

DATES: Additional comments concerning the scope of this analysis should be received by May 3, 2002.

ADDRESSES: Submit additional written comments to Linda Duffy, District Ranger, Ashland Ranger District, Rogue River National Forest, 645 Washington Street, Ashland, Oregon, 97520.

FOR FURTHER INFORMATION CONTACT: Linda Duffy or Steve Johnson, Ashland Ranger District, Rogue River National Forest, 645 Washington Street, Ashland, Oregon, 97520, Telephone (541) 482-3333; FAX (541) 858-2402.

SUPPLEMENTARY INFORMATION: This site specific EIS will focus on a project proposal for expansion within the existing ski permit area. A draft EIS was released in February 2000, documenting detailed analysis of three alternatives including No-Action. Extraordinary public response on that draft EIS has caused the Forest Service to conduct additional analysis that will result in a new environmental impact statement. The new EIS will result in an analysis that reflects active citizen participation and improves the range of alternatives considered in detail. This process is designed as a continuation of the ongoing environmental analysis and all input previously received will be utilized in the formulation of the new EIS. The stated purpose and need is modified from the February 2000 draft EIS. The proposal, as received from MAA, has also been modified to reflect further refinements that reduce environmental impacts. The environmental analysis will consider and include new information or changed circumstances since the programmatic decision on the “Master Plan” was made in 1991, including an action partially contained within an inventoried roadless area.

In a 1991 Record of Decision (ROD) and final EIS, the Forest Service decided that expanding the Mt. Ashland Ski Area (MASA) was an appropriate use of National Forest System Lands. In this current EIS process, the Forest Service is responding to a modified request (March 2002) by Mt. Ashland Association (MAA) to allow construction of some of the expanded ski facilities programmatically approved in 1991. MAA believes that operations and economic viability at the MASA would be enhanced by construction of proposed new facilities, which are intended to bring the ski area up to date relative to ski industry terrain and safety standards. The Forest Service agrees that this overall need exists and has agreed to consider options for meeting this need. The Forest Service and MAA have cooperatively determined six specific purpose elements for ski area expansion at the MASA at this time. Purpose 1 is terrain balance and diversity, including: develop a balance of terrain by ability level, develop suitable terrain for beginners, provide accessibility of existing lower level terrain, increase terrain for special programs and competitions, increase diversity of non-traditional terrain, and provide recreational opportunities for non-skiers. Purpose 2 is guest access and circulation including: enhance lift access and skier density, and improve access to facilities. Purpose 3 is update and balance guest services and facilities including: enhance guest experience by updating the quality of existing skier services, and provide additional guest services to improve accessibility. Purpose 4 is skier safety including: enact improvements that provide for and improve user safety. Purpose 5 is economic viability and longevity including: augment and modernize existing facilities to provide an economically viable and stable ski area, and provide a quality recreation experience appealing to the broadest spectrum of the skiing and snowboarding market. Purpose 6 is watershed restoration including: implement restoration projects to maintain or improve the trend of recovering watersheds.

Concurrent with the analysis of the Proposed Action under NEPA, the Forest Service will document several non-significant Forest Plan Amendments to make the Land and Resource Management Plans for the Rogue River and Klamath National Forests, consistent with the decision reached in the 1991 ROD/final EIS.

Based on extensive previous scoping, analysis and public comment received on the February 2000 draft EIS, a preliminary site specific list of project issues has been developed. The significant issue categories that will be used to develop the range of alternatives in the forthcoming draft EIS include: Effects on Water Quality, Effects to Wetlands and Riparian Reserves, Effects to Englemann Spruce, Effects to Mt. Ashland Lupine and Henderson's Horkelia, Effects Associated with Human Social Values, and Effects Associated with Economics.

Based on extensive public input and detailed field survey and analysis conducted by ski area planners, the following five alternatives will be analyzed in detail (at a minimum) in the forthcoming draft EIS: No-Action (as required by NEPA, the Proposed Action (based on a revised proposal received from Mt. Ashland Association), an alternative to the Proposed Action in the Middle Fork Ashland Creek area that addresses a reduced impact to Englemann spruce and wetlands, an expansion alternative based on development of additional facilities sited in the “Knoll” area, and an alternative that would primarily expand ski area facilities in areas already developed (current facility expansion). The legal location description for all actions being considered is T. 40 S., R. 1 E., in sections 15, 16, 17, 20, 21, and 22, W.M., Jackson County, Oregon.

Comments received on the draft EIS will be considered in the preparation of the final EIS. The draft EIS is now expected to be filed with the Environmental Protection Agency (EPA) and to be available for public review in July 2002. The comment period on the draft EIS will be 45-days from the date EPA publishes the Notice of Availability in the Federal Register. At the end of the comment period on the draft EIS, comments will be analyzed and considered by the Forest Service in preparing the final EIS. The final EIS is scheduled to be completed by fall 2002.

Comments received in response to this notice, including names and addresses of those who comment, will be considered part of the public record on this proposed action and will be available for public inspection. Comments submitted anonymously will be accepted and considered; however, those who submit anonymous comments will not have standing to appeal the subsequent decision under 36 CFR Parts 215 or 217. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

The Forest Service believes it is important to give reviewers notice of several court rulings related to public participation in the environmental review process. First, reviewers of draft EISs must structure their participation in the environmental review of the proposal so that it is meaningful and alerts an agency to the reviewer's position and contentions. Vermont Yankee Nuclear Power Corp. v. NRDC, 435 U.S. 519, 533 (1978). Also, environmental objections that could be raised at the draft EIS stage, but that are not raised until completion of the final EIS, may be waived or dismissed by the courts. City Angoon v. Hodel, 803 F. 2d 1016, 1022 (9th Cir, 1986) and Wisconsin Heritages, Inc. v. Harris, 490 F. Supp. 1334, 1338 (E.D. Wis. 1980). Because of these court rulings, it is important that those interested in this proposed action participate by the close of the 45-day comment period so substantive comments and objections are made available to the Forest Service at a time when it can meaningfully consider them and respond to them in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the statement. (Reviewers may wish to refer to the Council on Environmental Quality Regulations for implementing the procedural provisions of the National Environmental Policy Act at 40 CFR 1503.3 in addressing these points).

The Forest Service, Rogue River National Forest, is the Lead Agency for this EIS. The Forest Supervisors of the Rogue River and Klamath National Forests are the Responsible Officials. The Responsible Officials will consider the comments, responses to the comments, environmental consequences discussed in the final EIS, and applicable laws, regulations, and policies. The Responsible Officials will document the Mt. Ashland Ski Area Expansion decision and the rationale for the decision in a Record of Decision (ROD). The Forest Service decision will be subject to Forest Service Appeal Regulations (36 CFR Part 215).

Dated: March 25, 2002.
Thomas K. Reilly,
Acting Forest Supervisor.

[FR Doc. 02-7759 Filed 3-29-02; 8:45 am]

BILLING CODE 3410-11-M